DEPARTMENT OF JUSTICE

Notice of Lodging of Proposed Consent Decree Under the Comprehensive Environmental Response, Compensation, and Liability Act of 1980, as Amended (“CERCLA”), 42 U.S.C. § 9601 et seq.

On November 16, 2012, the Department of Justice lodged a proposed consent decree with the United States District Court for the District of New Jersey in the lawsuit entitled United States v. Honeywell International, Inc., Civil Action No. 2:12-cv-7091-SRC-CLW. The proposed consent decree provides for the performance of the Comprehensive Environmental Response, Compensation and Liability Act (“CERCLA”) remedial action selected by the United States Environmental Protection Agency (“EPA”) for the Quanta Resources Superfund Site located in Edgewater, New Jersey (“Site”), and payment of EPA's unreimbursed past costs and future response costs at the Site related to the Operable Unit 1 (“OU1”) remedy.

The proposed consent decree is between Plaintiff the United States of America, and the following Defendants: Honeywell International, Inc., Hudson River Associates, LLC, Metropolitan Consom, LLC, Quanta Resources Corporation, BASF Corporation, Beazer East, Inc., BFI Waste Systems of New Jersey, Inc., Borgwarner Inc., Buckeye Partners, LP, Quality Carriers, Colonial Pipeline Company, Consolidated Rail Corporation, Exxon Mobil Corporation, Ford Motor Company, General Dynamics Land Systems Inc., Miller Brewing Company, NEAPCO, Inc., Northrop Grumman Systems Corporation, Petroleum Tank Cleaners, Inc., Rome Strip Steel Company, Inc., Stanley Black & Decker, Inc., United Technologies Corporation, Hess Corporation, and Textron, Inc.

The publication of this notice opens a period for public comment on the consent decree. Comments should be addressed to the Assistant Attorney General, Environment and Natural Resources Division, and should refer to United States v. Honeywell International, Inc., D.J. Ref. No. 90-11-3-10445. All comments must be submitted no later than thirty (30) days after the publication date of this notice. Comments may be submitted either by email or by mail:

To submit comments: | Send them to:
By email | pubcomment-
| ees.enrd@usdoj.gov.
By mail | Assistant Attorney General, U.S. DOJ-ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ-ENRD, P.O. Box 7611, Washington, DC 20044-7611.

Please enclose a check or money order for $60.75 (25 cents per page reproduction cost) payable to the United States Treasury. For a paper copy without the exhibits and signature pages, the cost is $12.00.

Ronald G. Gluck,
Assistant Section Chief, Environmental Enforcement Section, Environment and Natural Resources Division.

[FR Doc. 2012-28734 Filed 11-26-12; 8:45 am]

BILLING CODE 4410-15-P